NUCLEAR REGULATORY COMMISSION

Notice of Public Meeting; Decommissioning Criteria for the West Valley Demonstration Project

AGENCY: Nuclear Regulatory Commission.

ACTION: Notice of public meeting in West Valley, New York.

SUMMARY: The U.S. Nuclear Regulatory Commission (NRC) will hold a transcribed, facilitated meeting on April 17, 2002 with the public to discuss the Commission's policy statement on the clean up criteria for the West Valley site entitled, “Decommissioning Criteria for the West Valley Demonstration Project at the West Valley Site.” The meeting will also include a discussion of the perspectives, roles, and responsibilities of the NRC and other federal and state agencies involved at the West Valley site. The Department of Energy and New York State Energy Research and Development Authority will also participate.

Date/Time: The meeting will be held on Wednesday, April 17, 2002, from 7 p.m. through 10 p.m. The meeting will be preceded by an “open house” between 6 p.m. and 7 p.m to allow for individual discussions with staff members.

Location: Ashford Office Complex, 9030 Route 219, West Valley, New York.

FOR FURTHER INFORMATION CONTACT: Francis X. Cameron, Special Counsel for Public Liaison, Office of General Council, U.S. Nuclear Regulatory Commission, Washington DC 20555-0001, or by telephone: (301) 415-1642 or e-mail: fxc@nrc.gov. Mr. Cameron will facilitate the meeting.

SUPPLEMENTARY INFORMATION: Additional information can be obtained from the Web site, http://www.access.gpo.gov/su_docs/fedreg/frcont02.html, or by contacting Mr. Chad Glenn at (800) 368-5642, ext. 6722, or via e-mail at cjg1@nrc.gov. The policy statement was published in the Federal Register on February 1, 2002 (67 FR 5003). Those who wish to ask questions should register with Mr. Glenn prior to the meeting or at the Ashford Office Complex, 9030 Route 219, West Valley, New York meeting site 15 minutes prior to the start of the meeting. Individual oral questions may be limited by the time available, depending on the number of persons who register. Copies of the information on the policy statement will also be available at the meeting. All attendees are requested to bring photo identification (i.e., driver's license).

Dated at Rockville, Maryland this 21st day of March, 2002.
For the Nuclear Regulatory Commission.
Larry W. Camper,
Chief, Decommissioning Branch, Division of Waste Management, Office of Nuclear Materials Safety and Safeguards.

[FR Doc. 02-7323 Filed 3-26-02; 8:45 am]

BILLING CODE 7590-01-P